FEDERAL COMMUNICATIONS COMMISSION

47 CFR PART 73

[DA 07-2544; MB Docket No. 05-112; MB Docket No. 05-151; RM-10539; RM-11374; RM-11222; RM-11258]

Radio Broadcasting Services; Converse, Flatonia, Georgetown, Goldthwaite, Ingram, Junction, Lago Vista, Lakeway, Llano, McQueeney, Nolanville, San Antonio, Waco, TX

AGENCY: Federal Communications Commission.

ACTION: Final rule.

SUMMARY: The respective Counterproposals in these two proceedings set forth mutually exclusive proposals at Llano, Texas. Therefore, it was necessary to consolidate MB Docket No. 05-112 and MB Docket No. 05-151. In response to the Counterproposal filed by Munbilla Broadcasting Properties, Ltd., this document allots Channel 297A to Goldthwaite, Texas, as a first local service. The reference coordinates for the Channel 297A allotment at Goldthwaite, Texas, are 31-30-00 and 98-42-23. With this action, both MB Docket No. 05-112 and MB Docket No. 05-151 are terminated.

DATES: Effective July 30, 2007.

FOR FURTHER INFORMATION CONTACT: Robert Hayne, Media Bureau, (202) 418-2177.

SUPPLEMENTARY INFORMATION: This is a synopsis of the consolidated Report and Order in MB Docket No. 05-112 and MB Docket No. 05-151, adopted June 13, 2007, and released June 15, 2007. The full text of this decision is available for inspection and copying during normal business hours in the FCC Reference Information Center at Portals ll, CY-A257, 445 12th Street, SW., Washington, DC 20554. The complete text of this decision may also be purchased from the Commission's copy contractor, Best Copying and Printing, Inc. 445 12th Street, SW., Room CY-B402, Washington, DC 20554, telephone 1-800-378-3160 or http://www.BCPIWEB.com. The Commission will send a copy of this Report and Order in a report to Congress and the Government Accountability Office pursuant to the Congressional Review Act, see 5 U.S.C. 801(a)(1)(A).

List of Subjects in 47 CFR Part 73

Radio, Radio broadcasting.

As stated in the preamble, the Federal Communications Commission amends 47 CFR Part 73 as follows:

PART 73—RADIO BROADCAST SERVICES

1. The authority citation for part 73 continues to read as follows:

Authority: 47 U.S.C. 154, 303, 334, 336.

§ 73.202(b) [Amended]

2. Section 73.202(b), the Table of FM Allotments under Texas is amended by adding Goldwaithe, Channel 297A.

Federal Communications Commission.
John A. Karousos,
Assistant Chief, Audio Division, Media Bureau.

[FR Doc. E7-13486 Filed 7-10-07; 8:45 am]

BILLING CODE 6712-01-P